DEPARTMENT OF ENERGY

Federal Energy Regulatory Commission

Combined Notice of Filings #2

Take notice that the Commission received the following electric corporate filings:

Docket Numbers: EC10-51-002.

Applicants: T. Rowe Price Group, Inc.

Description: T. Rowe Price Group, Inc., et al. submits Request for Reauthorization and Extension of Blanket Authorizations to Acquire and Dispose of Securities under Section 203 of the Federal Power Act.

Filed Date: 3/3/16.

Accession Number: 20160303-0021.

Comments Due: 5 p.m. ET 6/2/16.

Take notice that the Commission received the following electric rate filings:

Docket Numbers: ER10-2984-026.

Applicants: Merrill Lynch Commodities, Inc.

Description: Notice of Non-Material Change in Status of Merrill Lynch Commodities, Inc.

Filed Date: 5/19/16.

Accession Number: 20160519-5166.

Comments Due: 5 p.m. ET 6/9/16.

Docket Numbers: ER16-974-001.

Applicants: Midcontinent Independent System Operator, Inc.

Description: Compliance filing: 2016-05-19_SA 2898 Ameren Illinois-Ford County Wind Farm GIA (J375) Compliance to be effective 2/20/2016.

Filed Date: 5/19/16.

Accession Number: 20160519-5157.

Comments Due: 5 p.m. ET 6/9/16.

Docket Numbers: ER16-1742-000.

Applicants: PJM Interconnection, L.L.C.

Description: Section 205(d) Rate Filing: Revisions to CTOA Attachment A to add ITCI as a Transmission Owner to be effective 6/1/2016.

Filed Date: 5/19/16.

Accession Number: 20160519-5163.

Comments Due: 5 p.m. ET 6/9/16.

Docket Numbers: ER16-1743-000.

Applicants: PJM Interconnection, L.L.C.

Description: Tariff Cancellation: Notice of Cancellation of Service Agreement No. 2774, Queue V1-033 and W1-033 to be effective 5/11/2016.

Filed Date: 5/19/16.

Accession Number: 20160519-5164.

Comments Due: 5 p.m. ET 6/9/16.

Docket Numbers: ER16-1744-000.

Applicants: Idaho Power Company.

Description: Section 205(d) Rate Filing: Resubmitted BPA Conditional Firm Service Agreements 324 and 342 to be effective 7/1/2016.

Filed Date: 5/19/16.

Accession Number: 20160519-5186.

Comments Due: 5 p.m. ET 6/9/16.

Docket Numbers: ER16-1745-000.

Applicants: New England Power Company.

Description: Section 205(d) Rate Filing: Filing—Transmission System Upgrade Reimbursement Agreement with Deerfield Wind to be effective 4/28/2016.

Filed Date: 5/19/16.

Accession Number: 20160519-5187.

Comments Due: 5 p.m. ET 6/9/16.

Docket Numbers: ER16-1746-000.

Applicants: Midcontinent Independent System Operator, Inc.

Description: Section 205(d) Rate Filing: 2016-05-19_CTA Continuous Improvement Filing to be effective 7/18/2016.

Filed Date: 5/19/16.

Accession Number: 20160519-5188.

Comments Due: 5 p.m. ET 6/9/16.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: May 19, 2016.
Nathaniel J. Davis, Sr.,
Deputy Secretary.

[FR Doc. 2016-12430 Filed 5-25-16; 8:45 am]

BILLING CODE 6717-01-P